DEPARTMENT OF THE INTERIOR

Bureau of Land Management

[LLES956000-L14200000-BJ0000]

Eastern States: Filing of Plat of Survey

AGENCY: Bureau of Land Management, Interior.

ACTION: Notice of filing of plat of survey; Minnesota.

SUMMARY: The Bureau of Land Management (BLM) will file the plat of survey of the lands described below in the BLM-Eastern States office in Springfield, Virginia.

DATES: BLM will file the plat of survey on April 22, 2011.

FOR FURTHER INFORMATION CONTACT: Bureau of Land Management-Eastern States, 7450 Boston Boulevard, Springfield, Virginia 22153. Attn: Cadastral Survey.

SUPPLEMENTARY INFORMATION: This survey was requested by the Bureau of Indian Affairs.

The lands surveyed are:

Fifth Principal Meridian, Minnesota

T. 145 N. R. 40 W.

The plat of survey represents the corrective dependent resurvey of a portion of the East and west boundary, a portion of the subdivisional lines, a portion of sections subdivisions, and the subdivision of sections 31, 34 and 34, Township 145 North, Range 40 West, of the Fifth Principal Meridian, in the State of Minnesota, and was accepted February 3, 2011.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Dated: February 16, 2011.
Dominica Van Koten,
Chief Cadastral Surveyor.

[FR Doc. 2011-4045 Filed 3-22-11; 8:45 am]

BILLING CODE 4310-GJ-P